DEPARTMENT OF COMMERCE

National Oceanic and Atmospheric Administration

Proposed Information Collection; Comment Request; Alaska Region Gear Identification

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 20, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, telephone 907-586-7008, or Patsy.Bearden@noaa.gov.

SUPPLEMENTARY INFORMATION:

I. Abstract

Regulations specify that all hook-and-line, longline pot, and pot-and-line marker buoys carried on board or used by any vessel must be marked with Federal Fisheries Permit number or State of Alaska Department of Fish and Game vessel registration number. Regulations that marker buoys be marked with identification information are essential to facilitate fisheries enforcement and actions concerning damage, loss, and civil proceedings. The ability to link fishing gear to the vessel owner or operator is crucial to enforcement of regulations.

This collection also provides a voluntary opportunity for Gulf of Alaska (GOA) individual fishing quota (IFQ) sablefish fishermen to use a gear that physically protects caught sablefish from depredation by whales. That option, the use of pot longline gear, currently exists in sablefish IFQ fisheries in the Bering Sea and Aleutian Islands management areas. Potential benefits of pot longline gear for sablefish fishing include: Mitigation of whale interaction with fishing gear, reduced mortality of seabirds, reduced bycatch of non-target fish species, reduced overall halibut mortality when targeting sablefish, and better accounting of total sablefish fishing mortality.

Whales are able to strip hooked fish from hook-and-line gear, which reduces the amount of sablefish caught by fishermen. As such, whale depredation represents undocumented fishing mortality.

Many seabird species are attracted to fishing vessels in order to forage on bait, offal, discards, and other prey made available by fishing operations. These interactions can result in direct mortality for seabirds if they become entangled in fishing gear or strike the vessel or fishing gear while flying.

Each vessel must use mandatory logbooks (see OMB Control No. 0648-0213 and 0648-0515) when participating in a longline pot fishery. When the number of pots deployed by a vessel is self-reported through logbooks, the use of pot tags provides an additional enforcement tool to ensure that the pot limits are not exceeded. The use of pot tags requires a uniquely identified tag to be securely affixed to each pot. This allows at-sea enforcement and post-trip verification of the number of pots fished.

II. Method of Collection

Information will be collected using paper or electronic logbooks. Marker buoys are marked with identification information.

III. Data

OMB Control Number: 0648-0353.

Form Number(s): None.

Type of Review: Extension of a current information collection.

Affected Public: Individuals or households; Business or other for-profit organizations.

Estimated Number of Respondents: 990.

Estimated Time per Response: 15 minutes each for Request for IFQ Sablefish Pot Gear Tags, Request for Replacement of IFQ Sablefish Pot Gear Tags or Lost Gear, Marking of longline pot gear; and Groundfish Hook-and-line marker buoys.

Estimated Total Annual Burden Hours: 1800 hr.

Estimated Total Annual Cost to Public: $ 11,310.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 17, 2016.
Sarah Brabson,
NOAA PRA Clearance Officer.

[FR Doc. 2016-25452 Filed 10-20-16; 8:45 am]

BILLING CODE 3510-22-P